DEPARTMENT OF AGRICULTURE

Forest Service

Boundary Description and Final Map for Grande Ronde Wild and Scenic River, Umatilla National Forest (OR and WA), Wallowa Whitman National Forest (WA) and Bureau of Land Management (WA).

AGENCY: Forest Service, USDA.

ACTION: Notice of availability.

SUMMARY: In accordance with section 3(b) of the Wild and Scenic Rivers Act, the USDA Forest Service, Washington Office, is transmitting the final boundary description and map of the Grande Ronde Wild and Scenic River to Congress.

DATES: The boundaries and classification of the Grande Ronde Wild and Scenic River shall not become effective until ninety (90) days after they have been forwarded to the President of the Senate and the Speaker of the House of Representatives. In accordance with Section 3(b) of the Wild and Scenic Rivers Act (82 Stat. 906 as amended; 16 U.S.C. 1274), the detailed boundary descriptions and final maps were forwarded on August 11, 2015.

ADDRESSES: Documents may be viewed at USDA Forest Service, Yates Federal Building, 201 14th Street SW., Washington, DC 20250; at the Supervisors Office of the Umatilla National Forest 72510 Coyote Road, Pendleton, OR 97801; at the Supervisors Office of the Wallowa-Whitman National Forest, 1550 Dewey Ave, Suite A, Baker City, OR 97814; and at the Bureau of Land Management Public Room at 1220 SW 3rd Ave, Portland, OR 97208.

FOR FURTHER INFORMATION CONTACT: Information may be obtained by contacting the following office: Umatilla National Forest, 72510 Coyote Road, Pendleton, OR 97801; lrandall@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The Omnibus Oregon Wild and Scenic Rivers Act of October 28, 1988 designated the Grande Ronde Wild and Scenic River, to be Administered by the Secretary of Agriculture. As specified by law, the boundary will not be effective until ninety (90) days after Congress receives the transmittal.

Dated: August 11, 2015.
James Peña,
Regional Forester, Pacific Northwest Region.

[FR Doc. 2015-20513 Filed 8-19-15; 8:45 am]

BILLING CODE 3411-15-P